EQUAL EMPLOYMENT OPPORTUNITY COMMISSION

29 CFR Part 1601

706 Agencies: City of Springfield (IL) Department of Community Relations; Reading (PA) Human Relations Commission

AGENCY: Equal Employment Opportunity Commission.

ACTION: Final rule.

SUMMARY: The Equal Employment Opportunity Commission amends its Regulations designating certain state and local fair employment Practices agencies (706 Agencies) so that they may handle employment discrimination charges within their jurisdictions. Publication of this amendment effectuates the designation of the City of Springfield (IL) Department of Community Relations and Reading (PA) Human Relations Commission.

DATES: August 12, 2005.

FOR FURTHER INFORMATION CONTACT: Mary McIver, Equal Employment Opportunity Commission, Office of Field Programs, State and Local Programs, 1801 L Street, NW., Washington, DC 20507, Telephone (202) 663-4205.

SUPPLEMENTARY INFORMATION:

List of Subjects in 29 CFR Part 1601

Administrative practice and procedure, Equal employment opportunity, Intergovernmental relations.

Accordingly, title 29, chapter XIV, part 1601 is amended as follows:

PART 1601—PROCEDURAL REGULATIONS

1.The authority citation for part 1601 continues to read as follows:

Authority: 42 U.S.C. 2000e to 2000e-17; 42 U.S.C. 12111 to 12117.

2. Section 1601.74(a) is amended by adding in alphabetical order the following agencies:

§ 1601.74 Designated and notice agencies.

(a) * * *

City of Springfield (IL) Department of Community Relations

* * * * *

Reading (PA) Human Relations Commission

* * * * *

Signed at Washington, DC this 1st day of August, 2005.
For the Commission.
Cari M. Dominguez,
Chair.

[FR Doc. 05-15979 Filed 8-11-05; 8:45 am]

BILLING CODE 6570-01-P